EXPORT-IMPORT BANK

[Public Notice: 2021-6043]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995. EXIM's borrowers, financial institution policy holders and guaranteed lenders provide this form to U.S. exporters, who certify to the eligibility of their exports for EXIM support. For direct loans and loan guarantees, the completed form is required to be submitted at time of disbursement and held by either the guaranteed lender or EXIM. For MT insurance, the completed forms are held by the financial institution, only to be submitted to EXIM in the event of a claim filing. EXIM uses the referenced form to obtain information from exporters regarding the export transaction and content sourcing. These details are necessary to determine the value and legitimacy of EXIM financing support and claims submitted. It also provides the financial institutions a check on the export transaction's eligibility at the time it is fulfilling a financing request.

DATES: Comments must be received on or before January 18, 2022 to be assured of consideration.

ADDRESSES: Comments may be submitted electronically on www.regulations.gov (EIB 11-05) or by email to Donna Schneider <donna.schneider@exim.gov>, or by mail to Donna Schneider, Export-Import Bank, 811 Vermont Ave. NW, Washington, DC 20571. The information collection tool can be reviewed at: https://www.exim.gov/sites/default/files/pub/pending/eib11-05.pdf.

FOR FURTHER INFORMATION CONTACT: To request additional information, please Donna Schneider donna.schneider@exim.gov, 202-565-3612.

SUPPLEMENTARY INFORMATION:

Title and Form Number: EIB 11-05 Exporter's Certificate for Loan Guarantee & MT Insurance Programs.

OMB Number: 3048-0043.

Type of Review: Regular.

Need and Use: The information collected will allow EXIM to determine compliance and content for transaction requests submitted to the Export-Import Bank under its insurance, guarantee, and direct loan programs.

Affected Public: This form affects entities involved in the export of U.S. goods and services.

Annual Number of Respondents: 2,000.

Estimated Time per Respondent: 30 minutes.

Annual Burden Hours: 1,000 hours.

Frequency of Reporting of Use: As required.

Government Expenses:

Reviewing Time per Year: 167 hours.

Average Wages per Hour: $42.50.

Average Cost per Year: $7,097.50 (time * wages).

Benefits and Overhead: 20%.

Total Government Cost: $8,517.

Bassam Doughman,
IT Specialist.

[FR Doc. 2021-24968 Filed 11-15-21; 8:45 am]

BILLING CODE 6690-01-P